DEPARTMENT OF HEALTH AND HUMAN SERVICES

Solicitation of Written Comments on Draft Strategic National Vaccine Plan; Extension of Period for Public Comments

AGENCY: Department of Health and Human Services, Office of the Secretary.

ACTION: Notice.

SUMMARY: The Department of Health and Human Services published a notice in the Federal Register of January 14, 2009 (Vol. 74, No. 9, pages 2076-2078) soliciting comments on the draft strategic National Vaccine Plan. Comments were requested no later than 5 p.m. on January 30, 2009. Because many stakeholders responded that they did not have adequate time to coordinate comments from their respective constituencies, the National Vaccine Program Office (NVPO) is extending the period for public comments.

DATES: All comments on the draft Strategic National Vaccine Plan should be received no later than 5 p.m. on March 31, 2009.

ADDRESSES: Electronic responses are preferred and may be addressed to NVPComments@hhh.gov. Written responses should be addressed to the National Vaccine Program Office, Department of Health and Human Services, 200 Independence Avenue, SW., Room 443-H, Washington, DC 20201. Attention: National Vaccine Plan RFI.

FOR FURTHER INFORMATION CONTACT: CAPT Raymond A. Strikas, M.D., National Vaccine Program Office, Department of Health and Human Services, 200 Independence Avenue, SW., Room 443-H, Washington, DC 20201; (202) 690-5566; fax 202-260-1165; e-mail NVPComments@hhs.gov.

Dated: February 9, 2009.
Bruce Gellin,
Deputy Assistant Secretary for Health, Director, National Vaccine Program Office, U.S. Department of Health and Human Services.

[FR Doc. E9-3388 Filed 2-13-09; 8:45 am]

BILLING CODE 4150-44-P